COMMISSION ON CIVIL RIGHTS

Agenda and Notice of Public Meeting of the Louisiana Advisory Committee

Notice is hereby given, pursuant to the provisions of the rules and regulations of the U.S. Commission on Civil Rights, that a factfinding meeting of the Louisiana Advisory Committee to the Commission will convene at 9 a.m and adjourn at 9 p.m. on Tuesday, September 12, 2000 and Wednesday, September 13, 2000, at the Best Western-Richmond Suites, 2600 Moelling, Lake Charles, Louisiana 70609. The purpose of the factfinding meeting is to collect data on environmental equity issues in Louisiana.

Persons desiring additional information, or planning a presentation to the Committee, should contact Melvin L. Jenkins, Director of the Central Regional Office, 913-551-1400 (TDD 913-551-1414). Hearing-impaired persons who will attend the meeting and require the services of a sign language interpreter should contact the Regional Office at least ten (10) working days before the scheduled date of the meeting.

The meeting will be conducted pursuant to the provisions of the rules and regulations of the Commission.

Dated at Washington, DC, July 27, 2000.
Lisa M. Kelly,
Special Assistant to the Staff Director, Regional Programs Coordination Unit.

[FR Doc. 00-19657 Filed 8-2-00; 8:45 am]

BILLING CODE 6335-01-P